FEDERAL COMMUNICATIONS COMMISSION

47 CFR Part 101

[WT Docket No. 10-153; RM-11602; FCC 12-122]

Facilitating the Use of Microwave for Wireless Backhaul and Other Uses and Providing Additional Flexibility to Broadcast Auxiliary Service and Operational Fixed Microwave Licensees

AGENCY: Federal Communications Commission.

ACTION: Correcting amendments.

SUMMARY: The Federal Communications Commission (FCC) published a document in the Federal Register of September 5, 2012. In this document, the FCC on its own motion, pursuant to § 1.108 of the Commission's rules, corrects the channel center frequencies to align the wider 60 and 80 megahertz channels with the existing 30 and 40 megahertz channels in part 101 of our rules in the Wireless Backhaul 2nd R&O and issues this limited modification of the Wireless Backhaul 2nd R&O, in order to establish more efficient channel assignments, consistent with the Commission's intent to improve spectrum utilization in these bands. In addition, the FCC corrects an entry to the table in § 101.115(b)(2).

DATES: Effective December 12, 2012.

FOR FURTHER INFORMATION CONTACT: John Schauble, Wireless Telecommunications Bureau, Broadband Division, at 202-418-0797 or by email to John.Schauble@fcc.gov.

SUPPLEMENTARY INFORMATION: This is a summary of the Commission's Order, adopted on October 4, 2012 and released on October 5, 2012, FCC 12-122, correcting § 101.147 of the Commission's final rules adopted in the Wireless Backhaul 2nd R&O, FCC 12-87, published at 77 FR 54421 (September 5, 2012). The table under Frequency assignments, §§ 101.147(i)(9) and 101.147(o)(8) were incorrect and an entry to the table under Directional antennas in § 101.115(b)(2) is incorrect. This document makes the following corrections.

List of Subjects in 47 CFR Part 101

Communications equipment, Radio, Reporting and recordkeeping requirements.

Federal Communications Commission.
Bulah P. Wheeler,
Associate Secretary.

Accordingly, 47 CFR part 101 is corrected by making the following correcting amendments:

PART 101—FIXED MICROWAVE

1. The authority citation for part 101 continues to read as follows:

Authority: 47 U.S.C. 154, 303.

2. In § 101.115, amend paragraph (b)(2) by revising the frequency entry to the table “6,875 to 7,075” to read “6,875 to 7,125” as follows:

§ 101.115 Directional antennas.

* * * * *

(b) * * *

(2) * * *

Antenna Standards
Frequency (MHz) | Category | Maximum beamwidth to 3 dB points ¹ (included angle in degrees) | Minimum antenna gain (dBi) | Minimum radiation suppression to angle in degrees from centerline of main beam in decibels: 5° to 10° | Minimum radiation suppression to angle in degrees from centerline of main beam in decibels: 10° to 15° | Minimum radiation suppression to angle in degrees from centerline of main beam in decibels: 15° to 20° | Minimum radiation suppression to angle in degrees from centerline of main beam in decibels: 20° to 30° | Minimum radiation suppression to angle in degrees from centerline of main beam in decibels: 30° to 100° | Minimum radiation suppression to angle in degrees from centerline of main beam in decibels: 100° to 140° | Minimum radiation suppression to angle in degrees from centerline of main beam in decibels: 140° to 180°
* * * * * * *
6,875 to 7,125 | A | 2.2 | 38 | 25 | 29 | 33 | 36 | 42 | 55 | 55
| B1 | 2.2 | 38 | 21 | 25 | 29 | 32 | 35 | 39 | 45
| B2 | 4.1 | 32 | 15 | 20 | 23 | 28 | 29 | 60 | 60
* * * * * * *
¹ If a licensee chooses to show compliance using maximum beamwidth to 3 dB points, the beamwidth limit shall apply in both the azimuth and the elevation planes.

* * * * *

3. Amend § 101.147 by revising the frequency tables in paragraphs (i)(9) and (o)(8) to read as follows:

§ 101.147 Frequency assignments.

* * * * *

(i) * * *

(9) * * *

Transmit (receive) (MHz) | Receive (transmit) (MHz)
5960.025 | 6212.065
6019.325 | 6271.365
6078.625 | 6330.665
6137.925 | 6389.965

* * * * *

(o) * * *

(8) * * *

Transmit (receive) (MHz) | Receive (transmit) (MHz)
10755 | 11245
10835 | 11325
10915 | 11405
10995 | 11485
11075 | 11565
11155 | 11645

* * * * *

[FR Doc. 2012-28495 Filed 12-11-12; 8:45 am]

BILLING CODE 6712-01-P